DEPARTMENT OF DEFENSE

Office of the Secretary

Board of Visitors, National Defense University; Notice of Federal Advisory Committee Meeting

AGENCY: Office of the Chairman Joint Chiefs of Staff, Department of Defense (DoD).

ACTION: Notice of Federal Advisory Committee meeting.

SUMMARY: The DoD is publishing this notice to announce that the following Federal Advisory Committee meeting of the Board of Visitors, National Defense University (BoV NDU) will take place.

DATES: Wednesday, May 24, 2023 from 9 a.m. to 3 p.m.

ADDRESSES: Normandy Hall, Joint Forces Staff College, 7800 Hampton Blvd., Naval Support Activity Hampton Roads, Norfolk, VA 23511-1702. Visitors should report to the Front Security Desk in the lobby of Normandy Hall and from there, they will be directed to the meeting room.

FOR FURTHER INFORMATION CONTACT: Dr. John W. Yaeger, (202) 664-2629 (Voice), yaegerj@ndu.edu; Ms. Joycelyn Stevens, (202) 685-0079 (Voice) joycelyn.a.stevens.civ@mail.mil; stevensj7@ndu.edu (Email). Mailing address is National Defense University, Fort McNair Washington, DC 20319-5066. Website: http://www.ndu.edu/About/Board-of-Visitors/. The most up-to-date changes to the meeting agenda can be found at https://www.ndu.edu/About/Board-of-Visitors/BOV-May-24-2023.

SUPPLEMENTARY INFORMATION: This meeting is being held in accordance with chapter 10 of title 5, U.S.C. (formerly known as the Federal Advisory Committee Act (FACA) (5 U.S.C., App.)) under the provisions of the Government in the Sunshine Act of 1976 (5 U.S.C. 552b, as amended), and 41 CFR 102-3.140 and 102-3.150. Pursuant to 5 U.S.C. 552b and 41 CFR 102-3.140 through 102-3.165, this meeting is open to the public.

Purpose of the Meeting: The purpose of the meeting will include discussion on accreditation compliance, organizational management, resource management, and other matters of interest to the National Defense University.

Agenda: Wednesday, May 24, 2023 from 9 a.m. to 3 p.m. (Eastern Time): Call to Order and Administrative Notes; State of the University Address; Reaffirmation of Middle States Commission on Higher Education (MSCHE) Accreditation Outcomes; Ethics and Constitutional Law in Curriculum; Budget Update; Student Demographics; Access to Mental Health Resources; Discussion of Public Written Comments; Board of Visitors Member Deliberation and Feedback; Wrap-up and Closing Remarks.

Meeting Accessibility: Limited space is available for observers and will be allocated on a first come, first served basis. Meeting location is handicap accessible. Visitors must enter Naval Support Activity Hampton Roads via Gate A from Terminal Blvd. and Meredith St.

Base Access Requirements: All visitors without a U.S. Department of Defense Common Access Card (CAC) or U.S. military ID must be vetted in advance to gain entry onto the base. Visitors must complete and sign the Department of the Navy Local Population ID Card/Base Access Pass Registration (Form SECNAV 5512/1). Please visit https://www.cnic.navy.mil/Operations-and-Management/Base-Support/DBIDS/ and scroll to the bottom of the page to download the form. In block #24 on the form, please enter Mr. David McManaway as the Base Sponsor; his phone number is (757) 443-6621. Please fax the completed and signed Form SECNAV 5512/1 to Mr. David McManaway, JFSC Events Coordinator at (757) 443-6028. Please include a separate fax cover sheet listing your email address so Mr. McManaway can notify you if you have been cleared for base access. Please note vetting may take 14-21 working days.

Visitors who successfully complete vetting and identity proofing will be issued a DBIDS credential or paper access pass. The pass can be picked up the day prior or morning of the meeting at the Pass & ID Office at Norfolk Naval Station, 9040 Hampton Blvd., CD9, Norfolk, VA 23511. Hours of operation are 7 a.m. to 4 p.m. Monday through Friday. Please bring your ID. Additional supporting documents (including directions to Normandy Hall) are available at http://www.ndu.edu/About/Board-of-Visitors/. For questions or additional information, you may contact Mr. McManaway at (757) 443-6621 (Voice).

Vehicle Search: Non-DoD, Non-federally-affiliated visitors' vehicles are subject to search.

Written Statements: Pursuant to 41 CFR 102-3.105(j) and 102-3.140, and section 10(a)(3) of the Federal Advisory Committee Act of 1972, written statements to the committee may be submitted to the committee at any time or in response to a stated planned meeting agenda by email or fax to Ms. Joycelyn Stevens at bov@ndu.edu or Fax (202) 685-3920. Any written statements received by 5 p.m. on Tuesday, May 23 will be distributed to the BoV NDU in the order received. Comments pertaining to the agenda items will be discussed during the public meeting. Any written statements received after the deadline will be provided to the members of the BoV NDU prior to the next scheduled meeting and posted on the website.

Dated: April 24, 2023.
Aaron T. Siegel,
Alternate OSD Federal Register Liaison Officer, Department of Defense.

[FR Doc. 2023-08867 Filed 4-26-23; 8:45 am]

BILLING CODE 5001-06-P